NUCLEAR REGULATORY COMMISSION

Advisory Committee on Reactor Safeguards; Meeting of the ACRS Subcommittee on Reliability and PRA; Revision to March 24, 2010, ACRS Meeting Federal Register Notice

The Federal Register Notice for the ACRS Subcommittee Meeting on Reliability and Probabilistic Risk Assessment scheduled to be held on March 24, 2011, has been cancelled.

The notice of this meeting was previously published in the Federal Register on Wednesday, March 2, 2011, [75 FR 11525].

Further information regarding this meeting can be obtained by contacting John Lai, Designated Federal Official (Telephone: 301-415-5197, E-mail: John.Lai@nrc.gov) between 7:30 a.m. and 4:15 p.m. (ET).

Dated: March 2, 2011.
Yoira Diaz-Sanabria,
Acting Chief, Reactor Safety Branch B, Advisory Committee on Reactor Safeguards.

[FR Doc. 2011-5338 Filed 3-10-11; 8:45 am]

BILLING CODE 7590-01-P